DEPARTMENT OF AGRICULTURE

Forest Service

Information Collection; Request for Comments; Social Dimensions of Fuel Reduction Treatments in Southern Appalachian Forests

AGENCY: Forest Service, USDA.

ACTION: Notice.

SUMMARY: In accordance with the Paperwork Reduction Act of 1995, the Forest Service is seeking comments from all interested individuals and organizations on a new information collection, Social Dimensions of Fuel Reduction Treatments in Southern Appalachian Forests.

DATES: Comments must be received in writing on or before April 19, 2005 to be assured of consideration. Comments received after that date will be considered to the extent practicable.

ADDRESSES: Comments concerning this notice should be addressed to Robert D. Bixler, Associate Professor, Department of Parks, Recreation and Tourism Management, Clemson University, Clemson, SC 29634-0735.

Comments also may be submitted via facsimile to (864) 656-2226 or by e-mail to: twaldrop@fs.fed.us.

The public may inspect comments received at 263 Lehotsky Hall, Clemson University, Clemson, South Carolina, during normal business hours. Visitors are encouraged to call ahead to (864) 656-3400 to facilitate entry to the building.

FOR FURTHER INFORMATION CONTACT: Robert D. Bixler, Associate Professor, Department of Parks, Recreation and Tourism Management, (864) 656-4849. Individuals who use telecommunication devices for the deaf (TDD) may call the Federal Relay Service (FRS) at 1-800-877-8339 twenty-four hours a day, every day of the year, including holidays.

SUPPLEMENTARY INFORMATION: Title: Social Dimensions of Fuel Reduction Treatments in Southern Appalachian Forests.

OMB Number: 0596-New.

Expiration Date of Approval: New.

Type of Request: New.

Abstract: The Forest and Rangeland Renewable Resources Research Act of 1978, as amended, authorizes the Forest Service to collect information to help identify the range of knowledge, attitudes and values interested publics hold toward fuel-load reduction and resulting aesthetic and ecological changes. Fuel loads in the forests of the southern Appalachian Mountains pose significant risk of wildfire. Additionally in the last 20 years, numerous questions have been raised about the ecologically- and historically-appropriate vegetation patterns that should be present in these forests. Along with ecological research on the effects of silvicultural treatments to reduce fuel loads and restore historic vegetation patterns, there is a need to understand and describe how interested publics will evaluate these changes in forest ecology, should they occur. Forest resource managers need to consider human interests along with ecological concerns.

Data for this study will be collected through mail-back questionnaires. Faculty within the Department of Parks, Recreation and Tourism at Clemson University will supervise all steps of the study. The mail-back questionnaire will contain measures of perceptions of photographic images of areas burned as part of prescribed fires and mechanical thinning. Additional written questions will measure participation rates in different wildland recreation activities, perceptions of land management agencies, and desirability of a variety of ecological changes expected from fuel load reduction, knowledge of fuel reduction techniques, and knowledge of historic vegetation patterns of the southern Appalachian Mountains. Routine demographic data will also be collected.

The sample will be a purposive sample, designed to maximize the variety of interested publics who respond. A mailing will be made to residents of counties in North Carolina and Virginia where at least 35 percent of the area in the counties is USDA Forest Service land. Additional samples will be collected in forest recreation areas to include a variety of recreationists.

The results will consist of groupings of respondents based on differing perceptions, attitudes, and knowledge about prescribed fire. Cluster analysis will be conducted by the faculty at Clemson University who designed the study. The results will provide forest scientists and land managers information about what values and concerns are present among interested publics. These findings will help managers identify issues that require education and communication and topics related to the social values of forests affected by prescribed fire that will require additional in-depth research. Without this initial study in the southern Appalachian Mountains, managers will be less likely to accommodate social needs related to these forests and more likely to mis-communicate with interested publics.

Estimate of Annual Burden: 30 minutes.

Type of Respondents: Landowners near USDA Forest Service land within the Southern Appalachian Mountains and wildland recreationists using these same areas.

Estimated Annual Number of Respondents: 400.

Estimated Annual Number of Responses per Respondent: 1.

Estimated Total Annual Burden on Respondents: 200 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: February 8, 2005.
Bov B. Eav,
Associate Deputy Chief for Research & Development.

[FR Doc. 05-3121 Filed 2-17-05; 8:45 am]

BILLING CODE 3410-11-P